DEPARTMENT OF ENERGY

Federal Energy Regulatory Commission

Combined Notice of Filings #1

Take notice that the Commission received the following electric corporate filings:

Docket Numbers: EC18-114-000.

Applicants: The Dow Chemical Company, Union Carbide Corporation, Dow Pipeline Company, E. I. du Pont de Nemours and Company, Spruance Genco, LLC.

Description: Response to December 6, 2018 Deficiency Letter of The Dow Chemical Company, et al.

Filed Date: 12/28/18.

Accession Number: 20181228-5100.

Comments Due: 5 p.m. ET 1/18/19.

Take notice that the Commission received the following electric rate filings:

Docket Numbers: ER10-1514-005.

Applicants: CPV Keenan II Renewable Energy Company, LLC.

Description: Market Power Update of CPV Keenan II Renewable Energy Company, LLC.

Filed Date: 12/27/18.

Accession Number: 20181227-5243.

Comments Due: 5 p.m. ET 2/25/19.

Docket Numbers: ER10-2739-024; ER10-1892-011; ER14-2499-004; ER16-1652-012.

Applicants: LS Power Marketing, LLC, Columbia Energy LLC, LifeEnergy, LLC, Oneta Power, LLC.

Description: Updated Market Power Analysis of the LS SPP MBR Sellers.

Filed Date: 12/27/18.

Accession Number: 20181227-5240.

Comments Due: 5 p.m. ET 2/25/19.

Docket Numbers: ER12-1238-008; ER12-1239-008; ER10-2385-009; ER10-2368-008; ER10-2382-009; ER10-2357-009; ER10-2369-008; ER10-2361-009.

Applicants: Broken Bow Wind, LLC, Crofton Bluffs Wind, LLC, Elkhorn Ridge Wind, LLC, Laredo Ridge Wind, LLC, San Juan Mesa Wind Project, LLC, Sleeping Bear, LLC, Taloga Wind, LLC, Wildorado Wind, LLC.

Description: Updated Market Power Analysis of the Clearway SPP MBR Sellers.

Filed Date: 12/28/18.

Accession Number: 20181228-5112.

Comments Due: 5 p.m. ET 2/26/19.

Docket Numbers: ER15-1332-007; ER10-2401-007; ER10-2402-007; ER10-2403-008; ER11-3414-008; ER13-1816-010; ER15-1333-007; ER17-1318-003; ER18-1188-001.

Applicants: Arbuckle Mountain Wind Farm LLC, Blue Canyon Windpower II LLC, Blue Canyon Windpower V LLC, Blue Canyon Windpower VI LLC, Cloud County Wind Farm, LLC, Prairie Queen Wind Farm LLC, Redbed Plains Wind Farm LLC, Sustaining Power Solutions LLC, Waverly Wind Farm LLC.

Description: Updated Market Power Analysis for the Southwest Power Pool Region of Arbuckle Mountain Wind Farm LLC, et. al.

Filed Date: 12/27/18.

Accession Number: 20181227-5246.

Comments Due: 5 p.m. ET 2/25/19.

Docket Numbers: ER19-278-001.

Applicants: Midcontinent Independent System Operator, Inc., ALLETE, Inc.

Description: Tariff Amendment: 2018-12-28_MP-GRE ICA Substitute (Baxter) to be effective 11/3/2018.

Filed Date: 12/28/18.

Accession Number: 20181228-5090.

Comments Due: 5 p.m. ET 1/18/19.

Docket Numbers: ER19-697-000.

Applicants: Cheyenne Light, Fuel and Power Company.

Description: § 205(d) Rate Filing: Transmission Formula Rate Template and Protocols to be effective 1/1/2019.

Filed Date: 12/27/18.

Accession Number: 20181227-5215.

Comments Due: 5 p.m. ET 1/17/19.

Docket Numbers: ER19-698-000.

Applicants: Broken Bow Wind, LLC.

Description: § 205(d) Rate Filing: Revisions to Market-Based Rate Tariff to be effective 12/29/2018.

Filed Date: 12/28/18.

Accession Number: 20181228-5064.

Comments Due: 5 p.m. ET 1/18/19.

Docket Numbers: ER19-699-000.

Applicants: Crofton Bluffs Wind, LLC.

Description: § 205(d) Rate Filing: Revisions to Market-Based Rate Tariff to be effective 12/29/2018.

Filed Date: 12/28/18.

Accession Number: 20181228-5067.

Comments Due: 5 p.m. ET 1/18/19.

Docket Numbers: ER19-700-000.

Applicants: Elkhorn Ridge Wind, LLC.

Description: § 205(d) Rate Filing: Revisions to Market-Based Rate Tariff to be effective 12/29/2018.

Filed Date: 12/28/18.

Accession Number: 20181228-5068.

Comments Due: 5 p.m. ET 1/18/19.

Docket Numbers: ER19-701-000.

Applicants: Laredo Ridge Wind, LLC.

Description: § 205(d) Rate Filing: Revisions to Market-Based Rate Tariff to be effective 12/29/2018.

Filed Date: 12/28/18.

Accession Number: 20181228-5070.

Comments Due: 5 p.m. ET 1/18/19.

Docket Numbers: ER19-702-000.

Applicants: San Juan Mesa Wind Project, LLC.

Description: § 205(d) Rate Filing: Revisions to Market-Based Rate Tariff to be effective 12/29/2018.

Filed Date: 12/28/18.

Accession Number: 20181228-5071.

Comments Due: 5 p.m. ET 1/18/19.

Docket Numbers: ER19-703-000.

Applicants: Sleeping Bear, LLC.

Description: § 205(d) Rate Filing: Revisions to Market-Based Rate Tariff to be effective 12/29/2018.

Filed Date: 12/28/18.

Accession Number: 20181228-5072.

Comments Due: 5 p.m. ET 1/18/19.

Docket Numbers: ER19-704-000.

Applicants: Taloga Wind, LLC.

Description: § 205(d) Rate Filing: Revisions to Market-Based Rate Tariff to be effective 12/29/2018.

Filed Date: 12/28/18.

Accession Number: 20181228-5073.

Comments Due: 5 p.m. ET 1/18/19.

Docket Numbers: ER19-705-000.

Applicants: Wildorado Wind, LLC.

Description: § 205(d) Rate Filing: Revisions to Market-Based Rate Tariff to be effective 12/29/2018.

Filed Date: 12/28/18.

Accession Number: 20181228-5074.

Comments Due: 5 p.m. ET 1/18/19.

Docket Numbers: ER19-706-000.

Applicants: ISO New England Inc., Emera Maine.

Description: § 205(d) Rate Filing: ISO-NE and Emera Maine; Original Service Agreement under Schedule 21-EM to be effective 1/1/2019.

Filed Date: 12/28/18.

Accession Number: 20181228-5075.

Comments Due: 5 p.m. ET 1/18/19.

Docket Numbers: ER19-707-000.

Applicants: ISO New England Inc., New England Power Company.

Description: § 205(d) Rate Filing: ISO-NE and NEP; Second Revised Service Agreement No. TSA-NEP-83 to be effective 1/1/2019.

Filed Date: 12/28/18.

Accession Number: 20181228-5076.

Comments Due: 5 p.m. ET 1/18/19.

Docket Numbers: ER19-708-000.

Applicants: GSG, LLC.

Description: Baseline eTariff Filing: Reactive Power Compnsation Filing to be effective 2/26/2019.

Filed Date: 12/28/18.

Accession Number: 20181228-5077.

Comments Due: 5 p.m. ET 1/18/19.

Docket Numbers: ER19-709-000.

Applicants: Entergy Arkansas, LLC, Entergy Louisiana, LLC, Entergy Mississippi, LLC, Entergy New Orleans, LLC, Entergy Texas, Inc.

Description: § 205(d) Rate Filing: Entergy OpCos Reactive Power Update to be effective 1/1/2019.

Filed Date: 12/28/18.

Accession Number: 20181228-5080.

Comments Due: 5 p.m. ET 1/18/19.

Docket Numbers: ER19-710-000.

Applicants: Southwest Power Pool, Inc.

Description: § 205(d) Rate Filing: 1636R22 Kansas Electric Power Cooperative, Inc. NITSA and NOA to be effective 12/1/2018.

Filed Date: 12/28/18.

Accession Number: 20181228-5084.

Comments Due: 5 p.m. ET 1/18/19.

Docket Numbers: ER19-711-000.

Applicants: Louisville Gas and Electric Company.

Description: § 205(d) Rate Filing: KyMEA Telecom Equipment Agreement Service Agmt No. 21 to be effective 12/31/2018.

Filed Date: 12/28/18.

Accession Number: 20181228-5095.

Comments Due: 5 p.m. ET 1/18/19.

Docket Numbers: ER19-712-000.

Applicants: Southwest Power Pool, Inc.

Description: § 205(d) Rate Filing: 3499 Poplar Bluff Municipal Utilities NITSA NOA to be effective 12/1/2018.

Filed Date: 12/28/18.

Accession Number: 20181228-5096.

Comments Due: 5 p.m. ET 1/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2018.
Nathaniel J. Davis, Sr.,
Deputy Secretary.

[FR Doc. 2019-00530 Filed 1-30-19; 8:45 am]

BILLING CODE 6717-01-P